DEPARTMENT OF COMMERCE

International Trade Administration

[A-533-928]

Ceramic Tile From India: Postponement of Preliminary Determination in the Less-Than-Fair-Value Investigation

AGENCY: Enforcement and Compliance, International Trade Administration, Department of Commerce.

DATES: Applicable September 19, 2024.

FOR FURTHER INFORMATION CONTACT: Fred Baker or Theodora Mattei, AD/CVD Operations, Office VI, Enforcement and Compliance, International Trade Administration, U.S. Department of Commerce, 1401 Constitution Avenue NW, Washington, DC 20230; telephone: (202) 482-2924 or (202) 482-4834, respectively.

SUPPLEMENTARY INFORMATION:

Background

On May 9, 2024, the U.S. Department of Commerce (Commerce) initiated a less-than-fair-value (LTFV) investigation of imports of ceramic tile from India.¹ On July 22, 2024, Commerce tolled certain deadlines in this investigation by seven days.² Currently, the preliminary determination is due no later than October 3, 2024.

¹ See Ceramic Tile from India: Initiation of Less-Than-Fair-Value Investigation, 89 FR 42836 (May 16, 2024).

² See Memorandum, “Tolling of Deadlines for Antidumping and Countervailing Duty Proceedings,” dated July 22, 2024.

Postponement of Preliminary Determination

Section 733(b)(1)(A) of the Tariff Act of 1930, as amended (the Act), requires Commerce to issue the preliminary determination in a LTFV investigation within 140 days after the date on which Commerce initiated the investigation. However, section 733(c)(1)(A)(b)(1) of the Act permits Commerce to postpone the preliminary determination until no later than 190 days after the date on which Commerce initiated the investigation if: (A) the petitioner ³ makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

³ The petitioner is The Coalition for Fair Trade in Ceramic Tile whose members are Crossville, Inc., Dal-Tile Corporation, Del Conca USA, Inc., Florida Tile, Florim USA, Landmark Ceramics—UST, Inc., Portobello America Manufacturing LLC, StonePeak Ceramics Inc.

On September 3, 2024, the petitioner submitted a timely request that Commerce postpone the preliminary determination in the LTFV investigation.⁴ The petitioner requested postponement of the preliminary determination because it believes that Commerce requires more time to review questionnaire responses and address any deficiencies.⁵

⁴ See Petitioner`s Letter, “Petitioner's Request for Postponement of the Preliminary Determination,” dated September 3, 2024.

⁵ Id. at 2.

For the reason stated above and because there are no compelling reasons to deny the request, Commerce, in accordance with section 733(c)(1)(A) of the Act, is postponing the deadline for the preliminary determination by 50 days (i.e., 190 days after the date on which this investigation was initiated). As a result, Commerce will issue its preliminary determinations no later than November 22, 2024.⁶ In accordance with section 735(a)(1) of the Act and 19 CFR 351.210(b)(1), the deadline for the final determination of this investigation will continue to be 75 days after the date of the preliminary determination, unless postponed at a later date.

⁶ This date is inclusive of the seven days' tolling. See supra fn2.

This notice is issued and published pursuant to section 733(c)(2) of the Act and 19 CFR 351.205(f)(1).

Dated: September 12, 2024.
Ryan Majerus,
Deputy Assistant Secretary for Policy and Negotiations, performing the non-exclusive functions and duties of the Assistant Secretary for Enforcement and Compliance.

[FR Doc. 2024-21317 Filed 9-18-24; 8:45 am]

BILLING CODE 3510-DS-P